DEPARTMENT OF COMMERCE

International Trade Administration

[C-570-161, C-533-923]

2,4-Dichlorophenoxyacetic Acid From the People's Republic of China and India: Countervailing Duty Orders

AGENCY: Enforcement and Compliance, International Trade Administration, Department of Commerce.

SUMMARY: Based on affirmative final determinations by the U.S. Department of Commerce (Commerce) and the U.S. International Trade Commission (ITC), Commerce is issuing countervailing duty (CVD) orders on 2,4-dichlorophenoxyacetic Acid (2,4-D) from the People's Republic of China (China) and India.

DATES: Applicable May 27, 2025.

FOR FURTHER INFORMATION CONTACT: Thomas Schauer (China) (Office I) or Harrison Tanchuck (India) (Office VI), AD/CVD Operations, Enforcement and Compliance, U.S. Department of Commerce, 1401 Constitution Avenue NW, Washington, DC 20230; telephone: (202) 482-0410 and (202) 482-7421, respectively.

SUPPLEMENTARY INFORMATION:

Background

On April 7, 2025, Commerce published its affirmative final determinations in the countervailing duty investigations of 2,4-D from China and India.¹ On May 16, 2025, the ITC notified Commerce of its final determinations, pursuant to section 705(d) of the Tariff Act of 1930, as amended (the Act), that an industry in the United States is materially injured within the meaning of section 705(b)(1)(A)(i) of the Act by reason of imports of 2,4-D from China and India.²

¹ See 2,4-Dichlorophenoxyacetic Acid from India: Final Affirmative Countervailing Duty Determination, 90 FR 14961 (April 7, 2025); and 2,4-Dichlorophenoxyacetic Acid from the People's Republic of China: Final Affirmative Countervailing Duty Determination, 90 FR 14957 (April 7, 2025) (collectively, Final Determinations).

² See ITC's Letter, “Investigation Nos. 701-TA-710-711 and 731-TA-1673-1674 (Final),” dated May 16, 2025 (ITC Notification Letter).

Countervailing Duty Orders

Based on the final affirmative determinations by the ITC that an industry in the United States is materially injured by reason of subsidized imports of 2,4-D from China and India,³ in accordance with section 705(c)(2) of the Act, Commerce is issuing these CVD orders. Because the ITC determined that imports of 2,4-D from China and India are materially injuring a U.S. industry, unliquidated entries of such merchandise entered, or withdrawn from warehouse, for consumption, are subject to the assessment of countervailing duties.

³ Id.

Therefore, in accordance with section 706(a) of the Act, Commerce will direct CBP to assess, upon further instructions by Commerce, countervailing duties on unliquidated entries of 2,4-D from China and India entered, or withdrawn from warehouse, for consumption on or after September 13, 2024, the date of publication of the Preliminary Determinations,⁴ but will not include entries occurring after the expiration of the provisional measures period and before the publication of the ITC's final injury determination under section 705(b) of the Act, as further described below.

⁴ See 2,4-Dichlorophenoxyacetic Acid from India: Preliminary Affirmative Countervailing Duty Determination and Alignment of Final Determination With Final Antidumping Duty Determination, 89 FR 74906 (September 13, 2024), and accompanying Preliminary Decision Memorandum (PDM); and 2,4-Dichlorophenoxyacetic Acid from the People's Republic of China: Preliminary Affirmative Countervailing Duty Determination and Alignment of Final Determination With Final Antidumping Duty Determination, 89 FR 74906 (September 13, 2024), and accompanying PDM (collectively, Preliminary Determinations).

Suspension of Liquidation and Cash Deposits

In accordance with section 706 of the Act, Commerce intends to instruct CBP to reinstitute the suspension of liquidation of 2,4-D from China and India, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would normally deposit estimated customs duties on the subject merchandise, a cash deposit for each entry of subject merchandise equal to the subsidy rates listed below.⁵ The all-others rates apply to all producers or exporters not specifically listed below, as appropriate.

⁵ See section 706(a)(3) of the Act.

Scope of the Orders

The product covered by these orders is 2,4-D from China and India. For a complete description of the scope of these orders, see the appendix to this notice.

Estimated Countervailable Subsidy Rates

The estimated countervailable subsidy rates are as follows:

China

⁶ Commerce continues to find Tianyu to be cross-owned with the following companies: Thai Harvest Ltd., CAC Nantong Chemical Co., Ltd., and CAC Shanghai International Trading Co., Ltd.

⁷ Commerce continues to find Rainbow Agrosciences to be cross-owned with the following companies: Shandong Weifang Rainbow Chemical Co., Ltd., Ningxia Rainbow Chemical Co., Ltd., Shandong Rainbow Investment Co., Ltd., and Shandong Runnong Investment Co., Ltd.

Company | Subsidy rate (percent ad valorem)
Jiangxi Tianyu Chemical Co., Ltd.⁶ | 26.50
Shandong Rainbow Agrosciences Co., Ltd.⁷ | * 169.63
All Others | 26.50
* Rate based on facts available with adverse inferences.

India

⁸ As discussed in the PDM, Commerce has found the following companies to be cross-owned with Meghmani Organics Limited: Epigral Limited; and Matangi Industries LLP.

Company | Subsidy rate (percent ad valorem)
Atul Limited | 5.29
Meghmani Organics Limited ⁸ | 6.32
All Others | 5.88

Provisional Measures

Section 703(d) of the Act states that the suspension of liquidation pursuant to an affirmative preliminary determination may not remain in effect for more than four months. In the underlying investigations, Commerce published the Preliminary Determinations on September 13, 2024.⁹ As such, the four-month period beginning on the date of the publication of the Preliminary Determinations ended on January 10, 2025. Therefore, entries of 2,4-D from China and India made on or after January 11, 2025, and prior to the date of publication of the ITC's final determinations in the Federal Register, are not subject to the assessment of countervailing duties due to Commerce's discontinuation of the suspension of liquidation.

⁹ See Preliminary Determinations.

In accordance with section 703(d) of the Act, Commerce instructed CBP to terminate the suspension of liquidation and to liquidate, without regard to countervailing duties, unliquidated entries of 2,4-D from China and India entered, or withdrawn from warehouse, for consumption, on or after January 11, 2025, the date on which the provisional CVD measures expired, through the day preceding the date of publication of the ITC final injury determinations in the Federal Register. Suspension of liquidation and the collection of cash deposits will resume on the date of publication of the ITC final injury determinations in the Federal Register.

Establishment of the Annual Inquiry Service Lists

On September 20, 2021, Commerce published the final rule titled “Regulations to Improve Administration and Enforcement of Antidumping and Countervailing Duty Laws” in the Federal Register.¹⁰ On September 27, 2021, Commerce also published the notice titled “Scope Ruling Application; Annual Inquiry Service List; and Informational Sessions” in the Federal Register.¹¹ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹²

¹⁰ See Regulations to Improve Administration and Enforcement of Antidumping and Countervailing Duty Laws, 86 FR 52300 (September 20, 2021) (Final Rule).

¹¹ See Scope Ruling Application; Annual Inquiry Service List; and Informational Sessions, 86 FR 53205 (September 27, 2021) (Procedural Guidance).

¹² Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ¹³

¹³ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁴ Accordingly, as stated above, the petitioners and foreign governments should submit their initial entry of appearance after publication of this notice in order to appear in the first annual inquiry service list for those orders for which they qualify as an interested party. Pursuant to 19 CFR 351.225(n)(3), the petitioners and foreign governments will not need to resubmit their entry of appearance each year to continue to be included on the annual inquiry service list. However, the petitioners and foreign governments are responsible for making amendments to their entries of appearance during the annual update to the annual inquiry service list in accordance with the procedures described above.

¹⁴ See Final Rule, 86 FR at 52335.

Notifications to Interested Parties

This notice constitutes the CVD orders with respect to 2, 4-D from China and India pursuant to section 736(a) of the Act. Interested parties can find a list of CVD orders currently in effect at https://www.trade.gov/data-visualization/adcvd-proceedings.

These CVD orders are published in accordance with section 706(a) of the Act and 19 CFR 351.211(b).

Dated: May 20, 2025.
Christopher Abbott,
Deputy Assistant Secretary for Policy and Negotiations, performing the non-exclusive functions and duties of the Assistant Secretary for Enforcement and Compliance.

Appendix

Scope of the Orders

The merchandise subject to these orders is 2,4-dichlorophenoxyacetic acid (2,4-D) and its derivative products, including salt and ester forms of 2,4-D. 2,4-D has the Chemical Abstracts Service (CAS) registry number of 94-75-7 and the chemical formula C8H6Cl2O3.

Salt and ester forms of 2,4-D include 2,4-D sodium salt (CAS 2702-72-9), 2,4-D diethanolamine salt (CAS 5742-19-8), 2,4-D dimethyl amine salt (CAS 2008-39-1), 2,4-D isopropylamine salt (CAS 5742-17-6), 2,4-D tri-isopropanolamine salt (CAS 3234180-3), 2,4-D choline salt (CAS 1048373-72-3), 2,4-D butoxyethyl ester (CAS 1929-733), 2,4-D 2-ethylhexylester (CAS 1928-43-4), and 2,4-D isopropylester (CAS 94-11-1). All 2,4-D, as well as the salt and ester forms of 2,4-D, is covered by the scope irrespective of purity, particle size, or physical form.

The conversion of a 2,4-D salt or ester from 2,4-D acid, or the formulation of nonsubject merchandise with the subject 2,4-D, its salts, and its esters in the country of manufacture or in a third country does not remove the subject 2,4-D, its salts, or its esters from the scope. For any such formulations, only the 2,4-D, 2,4-D salt, and 2,4-D ester components of the mixture are covered by the scope of these orders. Formulations of 2,4-D are products that are registered for end-use applications with the Environmental Protection Agency and contain a dispersion agent.

The country of origin of any 2,4-D derivative salt or ester is determined by the country in which the underlying 2,4-D acid is produced. 2,4-D, its salts, and its esters are classified under Harmonized Tariff Schedule of the United States (HTSUS) subheading 2918.99.2010. Subject merchandise, including the abovementioned formulations, may also be classified under HTSUS subheadings 2922.12.0001, 2921.11.0000, 2921.19.6195, 2922.19.9690, 3808.93.0500, and 3808.93.1500. While the HTSUS subheadings and CAS registry numbers are provided for convenience and customs purposes, the written description of the scope of these orders is dispositive.

[FR Doc. 2025-09453 Filed 5-23-25; 8:45 am]

BILLING CODE 3510-DS-P